DEPARTMENT OF TRANSPORTATION

Federal Motor Carrier Safety Administration

[Docket No. FMCSA-2007-28695]

Qualification of Drivers; Exemption Applications; Vision

AGENCY: Federal Motor Carrier Safety Administration (FMCSA), DOT.

ACTION: Notice of applications for exemptions; request for comments.

SUMMARY: The FMCSA announces receipt of applications from 19 individuals for exemptions from the vision requirement in the Federal Motor Carrier Safety Regulations. If granted, the exemptions would enable these individuals to qualify as drivers of commercial motor vehicles (CMVs) in interstate commerce without meeting the Federal vision standard.

DATES: Comments must be received on or before September 17, 2007.

ADDRESSES: You may submit comments identified by Department of Transportation (DOT) Docket Management System (DMS) Docket Number FMCSA-2007-28695 using any of the following methods:

• Web Site: http://dmses.dot.gov/submit. Follow the instructions for submitting comments on the DOT electronic docket site.

• Fax: 1-202-493-2251.

• Mail: Docket Management Facility; U.S. Department of Transportation, 1200 New Jersey Avenue, SE., West Building, Ground Floor, Room W12-140, Washington, DC 20590-0001.

• Hand Delivery: Room W12-140 on the ground level of the West Building, 1200 New Jersey Avenue, SE., Washington, DC, between 9 a.m. and 5 p.m., Monday through Friday, except Federal holidays.

• Federal eRulemaking Portal: Go to http://www.regulations.gov. Follow the online instructions for submitting comments.

Instructions: All submissions must include the Agency name and docket number for this notice. Note that all comments received will be posted without change to http://dms.dot.gov including any personal information provided. Please see the Privacy Act heading for further information.

Docket: For access to the docket to read background documents or comments received, go to http://dms.dot.gov at any time or Room W12-140 on the ground level of the West Building, 1200 New Jersey Avenue, SE., Washington, DC, between 9 a.m. and 5 p.m., Monday through Friday, except Federal holidays. The DMS is available 24 hours each day, 365 days each year. If you want acknowledgment that we received your comments, please include a self-addressed, stamped envelope or postcard or print the acknowledgement page that appears after submitting comments online.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19477; Apr. 11, 2000). This information is also available at http://dms.dot.gov.

FOR FURTHER INFORMATION CONTACT: Dr. Mary D. Gunnels, Chief, Physical Qualifications Division, 202-366-4001, FMCSA, Room W64-224, U.S. Department of Transportation, 1200 New Jersey Avenue, SE., Washington, DC 20590-0001. Office hours are from 8:30 a.m. to 5 p.m. Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” The FMCSA can renew exemptions at the end of each 2-year period. The 19 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Dean N. Brown

Mr. Brown, age 42, has loss of vision in his right eye due to a traumatic injury sustained as a child. The visual acuity in his right eye is 20/400 and in the left, 20/20. Following an examination in 2007, his optometrist noted, “I certify that Dean has sufficient vision to perform the driving tasks required to operate a commercial vehicle.” Mr. Brown reported that he has driven straight trucks for 23 years, accumulating 115,000 miles, and tractor-trailer combinations for 11 years, accumulating 55,000 miles. He holds a Class A Commercial Driver's License (CDL) from Maine. His driving record for the last 3 years shows no crashes and no convictions for moving violations in a CMV.

James F. Cain, Sr.

Mr. Cain, 44, has had a corneal scar in his right eye since 1997. The best corrected visual acuity in his right eye is 20/150 and in the left, 20/20. Following an examination in 2007, his optometrist noted, “It is my opinion, Mr. Cain has sufficient vision to perform the tasks required to operate a commercial vehicle.” Mr. Cain reported that he has driven straight trucks for 14 years, accumulating 145,600 miles. He holds a Class B CDL from Ohio. His driving record for the last 3 years shows no crashes and no convictions for moving violations in a CMV.

David N. Cleveland

Mr. Cleveland, 45, has had amblyopia in his left eye since childhood. The best corrected visual acuity in his right eye is 20/20 and in the left, 20/200. Following an examination in 2007, his optometrist noted, “It is my medical opinion that because of Mr. Cleveland's considerable driving experience and the results of my examinations, he has sufficient vision when wearing corrective lenses to operate a commercial vehicle.” Mr. Cleveland reported that he has driven straight trucks for 29 years, accumulating 145,000 miles, and tractor-trailer combinations for 23 years, accumulating 115,000 miles. He holds a Class A CDL from Maine. His driving record for the last 3 years shows no crashes and no convictions for moving violations in a CMV.

Matthew R. Floyd

Mr. Floyd, 37, has a macular scar with epiretinal membrane formation in his right eye due to a traumatic injury sustained in 2003. The visual acuity in his right eye is 20/50 and in the left, 20/20. Following an examination in 2007, his optometrist noted, “It is my opinion, Mr. Floyd's visual deficit does not impact his ability to operate a commercial vehicle.” Mr. Floyd reported that he has driven tractor-trailer combinations for 12 years, accumulating 480,000 miles. He holds a Class A CDL from North Carolina. His driving record for the last 3 years shows no crashes and no convictions for moving violations in a CMV.

Nicholas A. Gotelaere

Mr. Gotelaere, 57, has optic atrophy in his left eye due to a traumatic injury sustained as a child. The visual acuity in his right eye is 20/20 and in the left, 20/400. Following an examination in 2007, his optometrist noted, “I feel that he does have the sufficient vision to perform the driving tasks required to operate a commercial vehicle.” Mr. Gotelaere reported that he has driven straight trucks for 26 years, accumulating 130,000 miles. He holds a Class D operator's license from Wisconsin. His driving record for the last 3 years shows no crashes and no convictions for moving violations in a

Christian L. Gremillion

Mr. Gremillion, 33, has had strabismus since childhood. The visual acuity in his right eye is 20/20 and in the left, 20/25. As a result of his condition, he lacks binocular vision. Following an examination in 2007, his ophthalmologist noted, “This patient has sufficient vision to operate a commercial vehicle and he has no eye disease that would change this.” Mr. Gremillion reported that he has driven tractor-trailer combinations for 7 years, accumulating 756,000 miles. He holds a Class A CDL from Louisiana. His driving record for the last 3 years shows no crashes and no convictions for moving violations in a CMV.

Valerie L. Kaune

Ms. Kaune, 47, has had amblyopia in her right eye since birth. The best corrected visual acuity in her right eye is 20/50 and in the left, 20/20. Following an examination in 2007, her optometrist noted, “In my professional opinion, Valerie has sufficient vision, including field of vision, to perform the driving tasks required to operate a commercial vehicle.” Ms. Kaune reported that she has driven straight trucks for 10 years, accumulating 1.1 million miles, and tractor-trailer combinations for 2½ years, accumulating 319,375 miles. She holds a Class A CDL from Texas. Her driving record for the last 3 years shows no crashes and one conviction for a moving violation, speeding in a CMV. She exceeded the speed limit by 10 mph.

Frank D. Konwinski, Jr.

Mr. Konwinski, 74, has complete loss of vision in his left eye due to a severed optic nerve as the result of a traumatic injury sustained in 1958. The best corrected visual acuity in his right eye is 20/25. Following an examination in 2006, his ophthalmologist noted, “I certify that in my medical opinion, Mr. Frank Dennes Konwinski, Jr., has sufficient vision to perform the driving tasks required to operate a commercial vehicle.” Mr. Konwinski reported that he has driven straight trucks for 57 years, accumulating 90,060 miles, and tractor-trailer combinations for 10 years, accumulating 25,000 miles. He holds a Class O operator's license from Nebraska, which allows him to drive any non-commercial vehicle except motorcycles. His driving record for the last 3 years shows no crashes and no convictions for moving violations in a CMV.

Jason E. Mallette

Mr. Mallette, 48, has a prosthetic right eye since 1969 due to disease caused by a parasite. The best corrected visual acuity in his left eye is 20/15. Following an examination in 2007, his ophthalmologist noted, “Patient has vision capable of operating a commercial vehicle.” Mr. Mallette reported that he has driven straight trucks for 3 years, accumulating 60,000 miles, and tractor-trailer combinations for 23 years, accumulating 506,000 miles. He holds a Class A CDL from Mississippi. His driving record for the last 3 years shows no crashes and no convictions for moving violations in a CMV.

Richard K. Mell

Mr. Mell, 61, has had amblyopia in his right eye since childhood. The best corrected visual acuity in his right eye is 20/200 and in the left, 20/25. Following an examination in 2007, his optometrist noted, “In my opinion, Mr. Mell has sufficient vision to perform the driving tasks required to operate a commercial vehicle.” Mr. Mell reported that he has driven tractor-trailer combinations for 15 years, accumulating 1.5 million miles. He holds a Class A CDL from Virginia. His driving record for the last 3 years shows two crashes, both of which he was cited for, and no convictions for moving violations in a CMV.

Christian E. Merseth

Mr. Merseth, 61, has a prosthetic right eye due to a traumatic injury sustained in 1971. The best corrected visual acuity in his left eye is 20/10. Following an examination in 2007, his optometrist noted, “Patient has better than standard vision to in left eye and his visual field is adequate to operate a commercial motor vehicle.” Mr. Merseth reported that he has driven tractor-trailer combinations for 9 years, accumulating 810,000 miles. He holds a Class A CDL from Minnestoa. His driving record for the last 3 years shows no crashes and no convictions for moving violations in a CMV.

Luis C. Najera

Mr. Najera, 40, has had amblyopia in his right eye since childhood. The best corrected visual acuity in his right eye is 20/200 and in the left, 20/25. Following an examination in 2007, his ophthalmologist noted, “In my medical opinion, he has sufficient vision to perform the driving task required to operate a commercial vehicle.” Mr. Najera reported that he has driven straight trucks for 3 years, accumulating 120,000 miles, and tractor-trailer combinations for 20 years, accumulating 2.3 million miles. He holds a Class A CDL from Texas. His driving record for the last 3 years shows no crashes and no convictions for moving violations in a CMV.

Kenneth D. Perkins

Mr. Perkins, 45, has a prosthetic left eye due to a traumatic injury sustained as a child. The best corrected visual acuity in his right eye is 20/20. Following an examination in 2007, his optometrist noted, “Patient has sufficient vision to perform driving tasks required to operate a commercial vehicle.” Mr. Perkins reported that he has driven tractor-trailer combinations for 7 years, accumulating 560,000 miles. He holds a Class A CDL from North Carolina. His driving record for the last 3 years shows no crashes and no convictions for moving violations in a CMV.

Terry W. Pope

Mr. Pope, 42, has a prosthetic left eye due to a traumatic injury sustained as a child. The visual acuity in his right eye is 20/20. Following an examination in 2007, his ophthalmologist noted, “I, Dr. Atnip, certify that in my medical opinion, Terry W. Pope has sufficient vision to perform the driving tasks required to operate a commercial vehicle.” Mr. Pope reported that he has driven straight trucks for 16 years, accumulating 480,000 miles. He holds a Class A CDL from Tennessee. His driving record for the last 3 years shows no crashes and no convictions for moving violations in a CMV.

Daniel T. Rhodes

Mr. Rhodes, 52, has a prosthetic right eye due to a retinal detachment caused by a genetic disease called Stickler's syndrome. The best corrected visual acuity in his left eye is 20/25. Following an examination in 2007, his ophthalmologist noted, “In my medical opinion, although a one-eyed patient, he has satisfactory vision to perform driving tasks in order to operate a commercial vehicle.” Mr. Rhodes reported that he has driven straight trucks for 31 years, accumulating 465,000 miles. He holds a Class B CDL from Illinois. His driving record for the last 3 years shows no crashes and no convictions for moving violations in a CMV.

Stephen E. Shields

Mr. Shields, 56, has a prosthetic left eye due to a traumatic injury sustained as a child. The visual acuity in his right eye is 20/20. Following an examination in 2007, his optometrist noted, “In my opinion with the long standing nature of visual impairment, Mr. Shields is safe to operate a commercial vehicle.” Mr. Shields reported that he has driven straight trucks for 4 years, accumulating 180,000 miles, and tractor-trailer combinations for 24 years, accumulating 840,000 miles. He holds a Class A CDL from Kentucky. His driving record for the last 3 years shows no crashes and no convictions for moving violations in a CMV.

Ricky J. Siebels

Mr. Siebels, 46, has a prosthetic right eye due to a traumatic injury sustained as a child. The visual acuity in his left eye is 20/15. Following an examination in 2007, his optometrist noted, “Ricky J. Siebels has sufficient vision to perform the driving tasks to operate a commercial vehicle.” Mr. Siebels reported that he has driven straight trucks for 27 years, accumulating 405,000 miles, and tractor-trailer combinations for 14 years, accumulating 630,000 miles. He holds a Class A CDL from Nebraska. His driving record for the last 3 years shows no crashes and no convictions for moving violations in a CMV.

Don S. Williams

Mr. Williams, 49, has a prosthetic right eye due to a traumatic injury sustained as a child. The best corrected visual acuity in his left eye is 20/20. Following an examination in 2007, his ophthalmologist noted, “It is therefore my opinion that Mr. Williams has full field of vision and would not have any difficulty driving any type of motor vehicle.” Mr. Williams reported that he has driven straight trucks for 18 years, accumulating 381,600 miles, and tractor-trailer combinations for 6 years, accumulating 39,996 miles. He holds a Class A CDL from Virginia. His driving record for the last 3 years shows no crashes and no convictions for moving violations in a CMV.

Robert L. Williams, Jr.

Mr. Williams, 44, has had a corneal scar on his right eye since childhood. The visual acuity in his right eye is 20/200 and in the left, 20/20. Following an examination in 2007, his optometrist noted, “Because this corneal scar has been present since childhood, and Mr. Williams has safely operated a commercial vehicle for years, he can continue to do so.” Mr. Williams reported that he has driven straight trucks for 13 years, accumulating 260,000 miles, tractor-trailer combinations for 13 years, accumulating 130,000 miles, and buses for 10 years, accumulating 100,000 miles. He holds a Class A CDL from Mississippi. His driving record for the last 3 years shows no crashes and no convictions for moving violations in a CMV.

Request for Comments

In accordance with 49 U.S.C. 31136(e) and 31315, FMCSA requests public comment from all interested persons on the exemption petitions described in this notice. The Agency will consider all comments received before the close of business September 17, 2007. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: August 9, 2007.
Larry W. Minor,
Associate Administrator, Policy and Program Development.

[FR Doc. E7-16201 Filed 8-16-07; 8:45 am]

BILLING CODE 4910-EX-P